DEPARTMENT OF TRANSPORTATION

Research and Special Programs Administration

Office of Hazardous Materials Safety; Notice of Applications for Modification of Exemption

AGENCY: Research and Special Programs Administration, DOT.

ACTION: List of applications for modification of exemption.

SUMMARY: In accordance with the procedures governing the application for, and the processing of, exemptions from the Department of Transportation's Hazardous Material Regulations (49 CFR Part 107, Subpart B), notice is hereby given that the Office of Hazardous Materials Safety has received the application described herein. This notice is abbreviated to expedite docketing and public notice. Because the sections affected, modes of transportation, and the nature of application have been shown in earlier Federal Register publications, they are not repeated here. Request of modifications of exemptions (e.g. to provide for additional hazardous materials, packaging design changes, additional mode of transportation, etc.) are described in footnotes to the application number. Application numbers with the suffix “M” denote a modification request. These applications have been separated from the new application for exemption to facilitate processing.

DATES: Comments must be received on or before July 13, 2004.

ADDRESS COMMENTS TO: Record Center, Research and Special Programs Administration, U.S. Department of Transportation, Washington, DC 20590.

Comments should refer to the application number and be submitted in triplicate. If Confirmation of receipt of comments is desired, include a self-addressed stamped postcard showing the exemption number.

FOR FURTHER INFORMATION CONTACT: Copies of the applications are available for inspection in the Records Center, Nassif Building, 400 7th Street, SW., Washington, DC or at http://dms.dot.gov.

This notice of receipt of applications for modification of exemption is published in accordance with Part 107 of the Federal hazardous materials transportation law (49 U.S.C. 5117(b); 49 CFR 1.53(b)).

Issued in Washington, DC, on June 23, 2004.
R. Ryan Posten,
Exemptions Program Officer, Office of Hazardous Materials Exemptions & Approvals.

Modification Exemptions
Application No. | Docket No. | Applicant | Regulation(s) affected | Modification of exemption | Nature of exemption thereof
7765-M |  | Carleton Technologies Inc., Orchard Park, NY | 49 CFR 173.302(a)(4); 175.3 | 7765 | To modify the exemption to authorize the use of an additional non-DOT specification pressure vessel reservoir assembly for the transportation of Division 2.2 materials.
10981-M |  | Austin Powder Company, Cleveland, OH | 49 CFR 172.101; 173.62; 176.83 | 10981 | To modify the exemption to authorize an additional loading operation location for the transportation of Division 1.5D materials in DOT Specification IM 102 portable tanks.
11241-M |  | Rohm and Haas Co., Philadelphia, PA | 49 CFR 179.13; Part 107, Subpart B, Appendix B, Paragraph 2; 172.203(a); 173.31(c)(1) | 11241 | To modify the exemption to authorize increasing the maximum gross weight on rail to 286,000 pounds for DOT Specification 105J300W tank cars transporting Class 3 materials.
11537-M |  | American Development Corporation, Vanceboro, NC | 49 CFR 177.834(h) | 11537 | To modify the exemption to authorize additional Class 8 materials in UN Standard UN31H2 or UN31HA1 Intermediate Bulk Containers (IBCs) to be unloaded while on a motor vehicle.
11579-M |  | Dyno Nobel, Inc., Salt Lake City, UT | 49 CFR 177.848(e)(2); 177.848(g)(3) | 11579 | To modify the exemption to authorize the transportation of additional Division 1.4, 1.5, 5.1, & Combustible materials and the use of several DOT Specification and non-DOT specification bulk packagings.
11667-M |  | Weldship Corporation, Bethlehem, PA | 49 CFR 173.302a(b); 180.205 & 180.209 | 11667 | To modify the exemption to authorize rail freight as an additional mode of transportation for transporting Division 2.1, 2.2 and 2.3 materials in DOT Specification 3AA, 3AAX and 3T cylinders.
12184-M | RSPA-98-4886 | Weldship Corporation, Bethlehem, PA | 49 CFR 173.302a(b); 180.205 & 180.209 | 12184 | To modify the exemption to authorize rail freight as an additional mode of transportation for transporting Division 2.1, 2.2 and 2.3 materials in DOT Specification 3A and 3AA cylinders.
12574-M | RSPA-00-8318 | Weldship Corporation, Bethlehem, PA | 49 CFR 173.302a(b); 180.205 & 180.209 | 12574 | To modify the exemption to authorize rail freight as an additional mode of transportation for transporting Division 2.2 materials in manifolded and framed non-DOT specification seamless steel cylinders.
13057-M | RSPA-02-12819 | MINTEQ International, Inc., Easton, PA | 49 CFR 172 Subparts D, E and F; 173.24(c) Subparts E and F of Part 173 | 13057 | To modify the exemption to authorize the use of wooden spools to coil and ship core-filled steel tubing, with an inner core containing various hazardous materials, that is securely affixed on a wooden pallet.
13083-M | RSPA-02-12994 | Rockwood Pigments NA, Inc., St. Louis, MO | 49 CFR 172.101 (SP IB6 or IP2) | 13083 | To reissue the exemption originally issued on an emergency basis for the transportation of a Division 4.2 material in UN13H2 or UN13H3 Intermediate Bulk Containers (IBCs).
13441-M | RSPA-04-17052 | Eastman Kodak Company, Rochester, NY | 49 CFR 173.6(a)(1)(ii), 173.6(d) | 13441 | To modify the exemption to increase the weekly/yearly number of bulk shipments transporting Class 8 & 9 Division 2.1 & 2.2 materials and increase the maximum bulk roll-off packaging weight to 39,000 pounds.

[FR Doc. 04-14640 Filed 6-25-04; 8:45 am]

BILLING CODE 4909-60-M